DEPARTMENT OF ENERGY

Federal Energy Regulatory Commission

Combined Notice of Filings # 1

Take notice that the Commission received the following electric rate filings:

Docket Numbers: ER24-1841-000.

Applicants: TransCanada Power Marketing Ltd.

Description: Tariff Amendment: Notice of Cancellation—Former TC Ironwood Reactive Supply to be effective 4/26/2024.

Filed Date: 4/25/24.

Accession Number: 20240425-5239.

Comment Date: 5 p.m. ET 5/16/24.

Docket Numbers: ER24-1842-000.

Applicants: Unitil Power Corp.

Description: Unitil Power Corp. submits Statement of all billing transactions under the Amended Unitil System Agreement for the period 01/01/2023 to 12/31/2023.

Filed Date: 4/25/24.

Accession Number: 20240425-5271.

Comment Date: 5 p.m. ET 5/16/24.

Docket Numbers: ER24-1843-000.

Applicants: Southern California Edison Company.

Description: 205(d) Rate Filing: Certificates of Concurrence ANPP Hassayampa with Sun Streams to be effective 12/9/2019.

Filed Date: 4/26/24.

Accession Number: 20240426-5105.

Comment Date: 5 p.m. ET 5/17/24.

Docket Numbers: ER24-1844-000.

Applicants: Public Service Company of Colorado.

Description: Tariff Amendment: 2024-04-26 CORE (fka IREA)—Bergen Park—E&P—432—NOC to be effective 4/27/2024.

Filed Date: 4/26/24.

Accession Number: 20240426-5162.

Comment Date: 5 p.m. ET 5/17/24.

Docket Numbers: ER24-1845-000.

Applicants: Tri-State Generation and Transmission Association, Inc.

Description: 205(d) Rate Filing: Initial Filing of Service Agreement FERC No. 921 to be effective 3/27/2024.

Filed Date: 4/26/24.

Accession Number: 20240426-5181.

Comment Date: 5 p.m. ET 5/17/24.

Docket Numbers: ER24-1846-000.

Applicants: Tri-State Generation and Transmission Association, Inc.

Description: Tariff Amendment: Notice of Cancellation of Service Agreement FERC No. 915 to be effective 3/27/2024.

Filed Date: 4/26/24.

Accession Number: 20240426-5190.

Comment Date: 5 p.m. ET 5/17/24.

Docket Numbers: ER24-1847-000.

Applicants: Sierra Pacific Power Company, Nevada Power Company.

Description: Compliance filing: Sierra Pacific Power Company submits tariff filing per 35: Order No. 2023 (RM22-14) Compliance Filing to be effective 7/1/2024.

Filed Date: 4/26/24.

Accession Number: 20240426-5222.

Comment Date: 5 p.m. ET 5/17/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 26, 2024.
Debbie-Anne A. Reese,
Acting Secretary.

[FR Doc. 2024-09594 Filed 5-2-24; 8:45 am]

BILLING CODE 6717-01-P